DEPARTMENT OF TRANSPORTATION

National Highway Traffic Safety Administration

[Docket No. NHTSA-2012-0148, Notice 1]

Notice of Receipt of Petition for Decision That Nonconforming 1991 Mercedes-Benz G-Class (463 Chassis) Multi-Purpose Passenger Vehicles Are Eligible for Importation

AGENCY: National Highway Traffic Safety Administration, DOT.

ACTION: Receipt of petition.

SUMMARY: This document announces receipt by the National Highway Traffic Safety Administration (NHTSA) of a petition for a decision that 1991 Mercedes-Benz G-class (463 chassis) multi-purpose passenger vehicles (MPVs) that were not originally manufactured to comply with all applicable Federal Motor Vehicle Safety Standards (FMVSS) are eligible for importation into the United States because they have safety features that comply with, or are capable of being altered to comply with, all such standards.

DATES: The closing date for comments on the petition is November 26, 2012.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: 202-493-2251.

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How To Read Comments Submitted to the Docket: You may read the comments received by Docket Management at the address and times given above. You may also view the documents from the Internet at http://www.regulations.gov.

Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: George Stevens, Office of Vehicle Safety Compliance, NHTSA (202-366-5308).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories, Inc. of Houston, Texas (WETL) (Registered Importer 90-005) has petitioned NHTSA to decide whether nonconforming 1991 Mercedes-Benz G-class (463 chassis) MPVs are eligible for importation into the United States. WETL believes these vehicles are capable of being modified to meet all applicable FMVSS.

In its petition, WETL noted that over a period of years, NHTSA has granted import eligibility to a number of Mercedes-Benz G-class (a.k.a., Gelaendewagen) vehicles based on the 463 chassis. These include long wheel base (LWB) and short wheel base (SWB) models as well as cabriolet, 3 door, and other body versions of the vehicle (assigned vehicle eligibility numbers VCP-11, 15, 16, and 18). These eligibility decisions were based on petitions submitted by several Registered Importers (RIs) who claimed that the vehicles were capable of being altered to comply with all applicable FMVSS.

Because those vehicles were not manufactured for importation into and sale in the United States, and were not certified by their original manufacturer (Daimler Ag), as conforming to all applicable FMVSS, they cannot be categorized as “substantially similar” to the vehicle that is the subject of the instant petition for the purpose of establishing import eligibility of that vehicle under 49 U.S.C. 30141(a)(1)(A). Therefore, the agency will consider WETL's petition as a petition pursuant to 49 U.S.C. 30141(a)(1)(B).

WETL submitted information with its petition intended to demonstrate that non-U.S. certified 1991 Mercedes-Benz G-class (463 chassis) MPVs conform to many FMVSS and are capable of being altered to comply with all other standards to which they were not originally manufactured to conform.

Specifically, the petitioner claims that non-U.S. certified 1991 Mercedes-Benz G-class (463 chassis) MPVs, as originally manufactured, conform to: Standard Nos. 102 Transmission Shift Lever Sequence, Starter Interlock, and Transmission Braking Effect, 103 Windshield Defrosting and Defogging Systems, 104 Windshield Wiping and Washing Systems, 105 Hydraulic and Electric Brake Systems, 106 Brake Hoses, 113 Hood Latch System, 116 Motor Vehicle Brake Fluids, 119 New Pneumatic Tires, 124 Accelerator Control Systems, 201 Occupant Protection in Interior Impact, 202 Head Restraints, 204 Steering Control Rearward Displacement, 205 Glazing Materials, 207 Seating Systems, 209 Seat Belt Assemblies, 210 Seat Belt Assembly Anchorages, 212 Windshield Mounting, 214 Side Impact Protection, 216 Roof Crush Resistance, 219 Windshield Zone Intrusion, and 302 Flammability of Interior Materials.

The petitioner also contends that the vehicles are capable of being altered to meet the following standards, in the manner indicated:

Standard No. 101 Controls and Displays: Replacement of the instrument cluster with a U.S.-model component.

Standard No. 108 Lamps, Reflective Devices and Associated Equipment: If the vehicle is not already so equipped, installation of U.S.-model: (a) Headlamps; (b) front and rear side marker lamps; (c) tail lamp lenses; and (d) front turn signal lamps.

Standard No. 111 Rearview Mirrors: Installation of a U.S.-model passenger side rearview mirror, or inscription of the required warning statement on the face of that mirror.

Standard No. 114 Theft Protection: Installation of software to reprogram the system to comply.

Standard No. 118 Power-Operated Window, Partition, and Roof Panel Systems: Inspection of each vehicle and reprogramming or rewiring of the power operated window system.

Standard No. 120 Tire Selection and Rims for Motor Vehicles Other Than Passenger Cars: Installation of a tire and rim information placard.

Standard No. 206 Door Locks and Door Retention Components: Replacement of door latch system components with U.S.-model components.

Standard No. 208 Occupant Crash Protection: Reprogramming the software for the seat belt warning system to meet the requirements of this standard.

The petitioner also stated that the vehicles are equipped with self-tensioning combination lap and shoulder belts that release by use of a single red push button at both front and rear outboard seating positions. The vehicle is equipped with a driver's-side airbag (passive restraint system).

Standard No. 209 Seat Belt Assemblies: Replacement of the passenger side seat belt with a U.S.-model component on vehicles that are not already so equipped.

Standard No. 301 Fuel System Integrity: Modification of the fuel vapor system to meet the EPA Onboard Refueling Vapor Recovery (ORVR) and the evaporative emissions requirements, which include installing a rollover and check valve to meet the requirements of this standard.

In addition, the petitioner states that a vehicle identification number plate must be installed in the area of the left windshield post to meet the requirements of 49 CFR Part 565 if the vehicle is not already so equipped.

All comments received before the close of business on the closing date indicated above will be considered, and will be available for examination in the docket at the above addresses both before and after that date. To the extent possible, comments filed after the closing date will also be considered. Notice of final action on the petition will be published in the Federal Register pursuant to the authority indicated below.

Authority: 49 U.S.C. 30141(a)(1)(A), (a)(1)(B), and (b)(1); 49 CFR 593.7; delegation of authority at 49 CFR 1.95 and 501.8.

Issued on: October 22, 2012.
Claude H. Harris,
Director, Office of Vehicle Safety Compliance.

[FR Doc. 2012-26347 Filed 10-25-12; 8:45 am]

BILLING CODE 4910-59-P